DEPARTMENT OF AGRICULTURE

Submission for OMB Review; Comment Request

July 16, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Risk Management Agency

Title: General Administrative Regulations; Interpretations of Statutory and Regulatory Provisions.

OMB Control Number: 0563-0055.

Summary of Collection: Section 533 of the Agricultural Research, Extension, and Education Reform Act of 1998 (1998 Research Act) requires the Federal Crop Insurance Corporation (FCIC) to publish regulation on how FCIC will provide a final agency determination in response to certain inquiries. Consistent with section 506(r) of the Act and 7 CFR part 400, subpart X in accordance with the Federal Crop Insurance Act, as amended, FCIC revised section 20 of the Common Crop Insurance Policy Basic Provisions, published at 7 CFR 457.8, to require the FCIC to provide interpretations of policy provisions and procedures (handbooks, manuals, memoranda, and bulletins) when any dispute in mediation, arbitration, or litigation requires interpretation of a policy provision or procedure.

Need and Use of the Information: FCIC will use the requester's name and address to provide a response. Federal crop insurance is a national program with all producers receiving the same policy for the same crop and insurance providers are required to use procedures issued by FCIC in the service and adjustment of such policies to ensure that all producers are treated alike and none receive special benefits or treatment because of the crop they produce, the insurance provider that insures them, or who hears their disputes. FCIC issued Manager's Bulletin MGR-05-018 on October 7, 2005, to provide the criteria for requesting an interpretation of procedure to inquire about the meaning or applicability of procedure. The requirements for this collection are necessary for FCIC to provide an interpretation of statutory and regulatory provisions upon request. If the requested information is not collected with each submission, FCIC would not be able to comply with the statutory mandates.

Description of Respondents: Business or other for-profit; farms.

Number of Respondents: 95.

Frequency of Responses: Reporting: On occasion.

Total Burden Hours: 805.

Risk Management Agency

Title: Risk Management and Crop Insurance Education; Request for Applications.

OMB Control Number: 0563-0067.

Summary of Collection: The Federal Crop Insurance Act, Title 7 U.S.C., Chapter 36, Section 1508(k) authorizes the Federal Crop Insurance Corporation (FCIC) to provide reinsurance to insurers approved by FCIC that insure producers of any agricultural commodity under one or more plans acceptable to FCIC. FCIC operating through the Risk Management Agency (RMA) has two application programs to carry out certain risk management education provisions of the Federal Crop Insurance Act. The two educational programs requiring application are: To establish crop insurance education and information programs in States that have been historically underserved by the Federal Crop Insurance Program; and to provide agricultural producers with training opportunities in risk management with a priority given to producers of specialty crops and underserved commodities. Funds are available to fund parties willing to assist RMA in carrying out local and regional risk management can crop insurance education programs.

Need and Use of the Information: Applicants are required to submit a completed application package in hard copy to RMA. RMA and review panel will evaluate and rank applicants as well as use the information to properly document and protect the integrity of the process used to select applications for funding. For applicants that are selected, the information will be used to create the terms of cooperative agreements between the applicant and the agency and will not be shared outside of RMA.

Description of Respondents: Not-for-profit institutions; business or other for-profit; State, Local, or Tribal Government.

Number of Respondents: 220.

Frequency of Responses: Reporting: On occasion.

Total Burden Hours: 4,188.

Charlene Parker,
Departmental Information Clearance Officer.

[FR Doc. 2012-17678 Filed 7-19-12; 8:45 am]

BILLING CODE 3410-08-P